Title 3—

The President

Executive Order 13305 of May 28, 2003

Extension of the President's Information Technology Advisory Committee and the President's Council of Advisors on Science and Technology

By the authority vested in me as President by the Constitution and the laws of the United States of America, including the High-Performance Computing Act of 1991 (Public Law 102-194), as amended by the Next Generation Internet Research Act of 1998 (Public Law 105-305), and in order to extend the life of the President's Information Technology Advisory Committee and the President's Council of Advisors on Science and Technology so that they may continue to carry out their responsibilities, it is hereby ordered as follows:

1. That section 4(b) of Executive Order 13035, as amended, is further amended by deleting “June 1, 2003,” and inserting in lieu thereof “June 1, 2005,”.

2. That section 4(b) of Executive Order 13226 is amended by deleting “2 years from the date of this order,” and inserting in lieu thereof “September 30, 2005,”.

B

THE WHITE HOUSE,

May 28, 2003.

[FR Doc. 03-13750

Filed 5-29-03; 8:45 am]

Billing code 3195-01-P